DEPARTMENT OF COMMERCE

Census Bureau

Proposed Information Collection; Comment Request; 2017-2019 Business Research and Development Surveys

AGENCY: U.S. Census Bureau, Department of Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before November 6, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Michael Flaherty, U.S. Census Bureau, HQ-6H149, 4600 Silver Hill Rd., Suitland, MD 20746, (301) 763-7699 (or via the internet at michael.j.flaherty@census.gov).

SUPPLEMENTARY INFORMATION:

I. Abstract

The U.S. Census Bureau, with support from the National Science Foundation (NSF), plans to conduct the Business Research and Development Survey (BRDS) for the 2017-2019 survey years (collected in calendar years 2018-2020). The BRDS covers all domestic, non-farm, for-profit businesses with at least 10 paid employees. The BRDS provides the only comprehensive data on Research and Development (R&D) costs and detailed expenses by type and industry.

The Census Bureau has conducted an R&D survey since 1957 (the Survey of Industrial Research and Development (SIRD) from 1957-2007 and the Business R&D and Innovation Survey (BRDIS) from 2008-2016), collecting primarily financial information on the systematic work companies undertake to discover new knowledge or use existing knowledge to develop new or improved goods and services.

From 2008-2015, the BRDIS collected R&D and innovation data from companies with five or more employees. In 2016, the BRDIS collected R&D and innovation data from companies with at least one paid employee. Beginning in 2017, the BRDS will no longer collect innovation data and only companies with at least 10 paid employees will be in scope. The Census Bureau will continue to collect R&D data from companies with fewer than 10 employees, and innovation data from all companies, however, beginning in 2017, these data will be collected on a different survey.

The 2017-2019 BRDS will continue to collect the following types of information:

• R&D expense based on accepted accounting standards.

• Worldwide R&D of domestic companies.

• Business segment detail.

• R&D-related capital expenditures.

• Detailed data about the R&D workforce.

• R&D strategy and data on the potential impact of R&D on the market.

• R&D directed to application areas of particular national interest.

• Data measuring intellectual property protection activities and technology transfer.

Domestic and foreign researchers in academia, business, and government analyze and cite data from the BRDS. Among the federal government users are the Bureau of Economic Analysis (BEA) and the White House's Office of Science and Technology Policy (OSTP). BEA includes R&D in the system of national accounts that measures the economic well-being of the country. BRDS data are key inputs into these accounts, which feed into the calculation of the U.S. Gross Domestic Product (GDP). The White House, in 2006, issued the American Competitiveness Initiative to “increase investments in research and development, strengthen education, and encourage entrepreneurship.” In support of this initiative and in response to legislative mandates, data on R&D are delivered to OSTP, primarily in the biennial National Science Board report Science and Engineering Indicators. Also, the National Science Foundation (NSF) produces a series of publications containing R&D data including the National Patterns of R&D Resources series, the S&E State Profile series, and the annual Business R&D and Innovation series. Special reports and other publications are also prepared.

II. Method of Collection

Beginning in 2017, the BRDS will follow a primarily electronic collection strategy. The BRD-1 form will be available on the Web site to assist respondents with gathering the required data prior to reporting online. Paper forms will also be sent to respondents upon request, however no paper forms will be included in initial mail packets. The online survey automatically skips questions that do not apply [based on previous responses] and checks for common errors. Links to detailed question-by-question instructions will be embedded in the electronic instrument. Excel spreadsheets are available to facilitate the electronic collection of information from various areas of the companies. Respondents have the capability to download the spreadsheets from the Census Bureau's Web site. A consolidator spreadsheet is also available to assist companies that need to gather information from business units and then compile the information into one company report.

The due date will be six weeks after mail out.

III. Data

OMB Control Number: 0607-0912.

Form Number: BRD-1.

Type of Review: Regular submission.

Affected Public: All domestic, non-farm, for-profit (public or private) businesses with at least 10 paid employees.

Estimated Number of Respondents: 45,000.

Estimated Time per Response: 3.3 hours.

Estimated Total Annual Burden Hours: 148,600.

Estimated Total Annual Cost: $0.

Respondent's Obligation: Mandatory.

Legal Authority: Title 13, United States Code, Sections 8(b), 131, and 182; and Title 42, United States Code, Sections 1861-76 (National Science Foundation Act of 1950, as amended).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-18656 Filed 9-1-17; 8:45 am]

BILLING CODE 3510-07-P